NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection:

NUREG/BR-0238, Materials Annual Fee Billing Handbook.

NRC Form 628, “Financial EDI Authorization.”

NUREG/BR-0254, Payment Methods.

NRC Form 629, “Authorization for Payment by Credit Card.”

3. The form numbers if applicable: NRC Form 628 and NRC Form 629.

4. How often the collection is required: Annually.

5. Who will be required or asked to report: Anyone conducting business with the Nuclear Regulatory Commission including licensees, applicants and individuals who are required to pay a fee for inspections and licenses.

6. An estimate of the number of annual responses: 466 (10 for NRC Form 628 and 456 for NRC Form 629 and NUREG/BR-0254).

7. The estimated number of annual respondents: 466 (10 for NRC Form 628 and 456 for NRC Form 629 and NUREG/BR-0254).

8. An estimate of the total number of hours needed annually to complete the requirement or request: 38 (.8 hour for NRC Form 628 and 37 hours for NRC Form 629 and NUREG/BR-0254).

9. An indication of whether section 3507(d), Public Law 104-13 applies: N/A.

10. Abstract: The U.S. Department of the Treasury encourages the public to pay monies owed the government through use of the Automated Clearinghouse Network and credit cards. These two methods of payment are used by licensees, applicants, and individuals to pay civil penalties, full cost licensing fees, and inspection fees to the NRC. The NRC Form 628, “Financial EDI Authorization,” provides an option to make electronic payment through the Automated Clearinghouse (ACH) Network and authorizes the licensee's bank to pay invoices to the NRC through the ACH. The NRC Form 628 requests the licensee's name; electronic funds transfer contact, telephone number, address, authorized signature and title.

NRC Form 629, “Authorization for Payment by Credit Card,” is another option used to authorize payment. The credit card authorization form is used by licensees to authorize payment by credit card for license fees and for payment of fees for fingerprint cards, and solicits information that identifies the cardholder's name, address, account number, card expiration date, cards accepted, cardholder's signature, invoice number or license number.

There are no recordkeeping requirements associated with this collection.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by April 9, 2008. Comments received after this date will be considered if it is practical to do so, but assurance of consideration cannot be given to comments received after this date.

Nathan Frey, Desk Officer, Office of Information and Regulatory Affairs (3150-0190), NEOB-10202, Office of Management and Budget, Washington, DC 20503.

Comments can also be e-mailed to Nathan_J._Frey@omb.eop.gov or submitted by telephone at (202) 395-7345.

The NRC Clearance Officer is Margaret A. Janney, 301-415-7245.

Dated at Rockville, Maryland, this 3rd day of March, 2008.
For the Nuclear Regulatory Commission.
Tremaine U. Donnell,
Acting NRC Clearance Officer, Office of Information Services.

[FR Doc. E8-4646 Filed 3-7-08; 8:45 am]

BILLING CODE 7590-01-P